DEPARTMENT OF HEALTH AND HUMAN SERVICES

Centers for Medicare & Medicaid Services

[CMS-5520-CN]

Announcement of Requirements and Registration for “A Bill You Can Understand” Design and Innovation Challenge: Help Patients Understand Their Medical Bills and the Financial Aspect of Health; Correction

AGENCY: Centers for Medicare & Medicaid Services (CMS), HHS.

ACTION: Notice; correction.

SUMMARY: This document corrects technical errors that appeared in the notice published in the May 10, 2016 Federal Register entitled “Announcement of Requirements and Registration for “A Bill You Can Understand” Design and Innovation Challenge: Help Patients Understand Their Medical Bills and the Financial Aspect of Health.”

DATES: Effective June 3, 2016.

FOR FURTHER INFORMATION CONTACT: Ben Shannon, Communications Advisor, Office of the Assistant Secretary for Public Affairs, Department of Health and Human Services, 200 Independence Avenue SW., Washington, DC 20210, phone (202) 205-2819, email ben.shanon@hhs.gov.

SUPPLEMENTARY INFORMATION:

I. Background

In FR Doc. 2016-10980 (81 FR 28873 through 28875), the notice entitled “Announcement of Requirements and Registration for “A Bill You Can Understand” Design and Innovation Challenge: Help Patients Understand Their Medical Bills and the Financial Aspect of Health,” there were a number of technical errors that are identified and corrected in section III., the Correction of Errors. The provisions in this correction document are effective as if they had been included in the document published May 10, 2016. Accordingly, the corrections are effective June 3, 2016.

II. Summary of Errors

On page 28874, under the heading “A. Subject of the Challenge Competition”, and page 29975, under the heading “F. Basis Upon Which the Winners Will Be Selected”, we inadvertently omitted clarifying language.

III. Correction of Errors

In FR Doc. 2016-10980 of May 10, 2016 (81 FR 28873), make the following corrections:

1. On page 28874, first column; fourth paragraph, under the heading “A. Subject of the Challenge Competition”, lines 8 through 16, the sentences “Participants will be asked to submit entries that improve both the design of the medical bill and patient experience of the medical billing process. Submissions will include the (1) design concept for the redesigned medical bill, (2) journey map or wireframe for the redesigned patient experience,” are corrected to read ”Participants will be asked to submit entries that improve both the design of the medical bill and other materials and tools the patient sees and interacts with as well as the patient experience of the medical billing process. Submissions will include the: (1) Design concept for the redesigned medical bill and other materials and tools the patient sees and interacts with, (2) journey map of the redesigned patient experience,”

2. On page 28875, first column; in the paragraph following the heading; “F. Basis Upon Which the Winners Will Be Selected”, the bullet point statements:

“• Contains all Necessary Data and Information.

• Usefulness and Understandability of Patient Facing Materials (Bill or Otherwise).

• Adherence to Plain Language Guidelines.

• Transparency of Data (Including How the Data is Translated and Explained).” are corrected to read:

“• Most Appropriate Use of Data and Information.

• Addresses Top Concerns Associated with the Current Medical Billing Experience.

• Usefulness and Understandability of Patient Facing Materials (Bill or Otherwise).

• Use of Human-Centered Design Process in Creation of Concept.

• Use of Plain Language.”

Dated: June 2, 2016.
Andrew M. Slavitt,
Acting Administrator, Centers for Medicare & Medicaid Services.

[FR Doc. 2016-13548 Filed 6-3-16; 4:15 pm]

BILLING CODE 4120-01-P